ENVIRONMENTAL PROTECTION AGENCY

40 CFR Part 180

[EPA-HQ-OPP-2017-0128; FRL-9963-03]

RIN 2070-ZA16

Aluminum tris (O-ethylphosphonate), Carbon disulfide, p-Chlorophenoxyacetic acid, Cyromazine, Dichlobenil, et al.; Proposed Tolerance and Tolerance Exemption Actions

AGENCY: Environmental Protection Agency (EPA).

ACTION: Proposed rule.

SUMMARY: EPA is proposing to revoke certain tolerances for aluminum tris (O-ethylphosphonate), carbon disulfide, cyromazine, dichlobenil, isoxaben, oxydemeton-methyl, propachlor, sulfentrazone, and thiodicarb, and a tolerance exemption for d-limonene. Also, EPA is proposing to modify certain tolerances for aluminum tris (O-ethylphosphonate) and cyromazine, and to establish new tolerances for aluminum tris (O-ethylphosphonate), cyromazine, dichlobenil, isoxaben, and sulfentrazone, and new tolerance exemptions for d-limonene and tartrazine. In addition, EPA is proposing to revise the tolerance expressions for p-chlorophenoxyacetic acid and dichlobenil, remove expired tolerances for disulfoton, correct the listing of a tolerance for thiacloprid, and correct the listing of significant figures for certain existing tolerances of specific pesticide active ingredients.

DATES: Comments must be received on or before November 7, 2017.

ADDRESSES: Submit your comments, identified by docket identification (ID) number EPA-HQ-OPP-2017-0128, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW., Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: Joseph Nevola, Pesticide Re-Evaluation Division (7508P), Office of Pesticide Programs, Environmental Protection Agency, 1200 Pennsylvania Ave. NW., Washington, DC 20460-0001; telephone number: (703) 308-8037; email address: nevola.joseph@epa.gov.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

C. What can I do if I wish the Agency to maintain a tolerance that the agency proposes to revoke?

This proposed rule provides a comment period of 60 days for any person to state an interest in retaining a tolerance proposed for revocation. If EPA receives a comment within the 60-day period to that effect, EPA will not proceed to revoke the tolerance immediately. However, EPA will take steps to ensure the submission of any needed supporting data and will issue an order in the Federal Register under the Federal Food, Drug, and Cosmetic Act (FFDCA) section 408(f), if needed. The order would specify data needed and the timeframes for its submission, and would require that within 90 days some person or persons notify EPA that they will submit the data. If the data are not submitted as required in the order, EPA will take appropriate action under FFDCA.

EPA issues a final rule after considering comments that are submitted in response to this proposed rule. In addition to submitting comments in response to this proposal, you may also submit an objection at the time of the final rule. If you fail to file an objection to the final rule within the time period specified, you will have waived the right to raise any issues resolved in the final rule. After the specified time, issues resolved in the final rule cannot be raised again in any subsequent proceedings.

II. Background

A. What action is the Agency taking?

EPA is proposing, in follow-up to canceled product registrations or uses, to revoke certain tolerances for carbon disulfide (degradate of sodium tetrathiocarbonate), dichlobenil, oxydemeton-methyl, propachlor, and thiodicarb; and to revoke a tolerance exemption for insecticidal uses of d-limonene in 40 CFR part 180 subpart C (for tolerances) and concomitantly establish two tolerance exemptions to cover both the existing insecticidal and herbicidal uses of d-limonene in 40 CFR part 180 subpart D (for exemptions).

As part of registration review, EPA will harmonize U.S. tolerances with international Maximum Residue Limits (MRLs) where possible. Therefore, EPA is proposing to modify certain tolerances for aluminum tris (O-ethylphosphonate) and cyromazine for harmonization purposes.

In a series of planned crop group updates, EPA has revised crop groupings to promote the greater use of crop groupings for tolerance-setting purposes and, in particular, to assist in making available lower risk pesticides for minor crops. EPA plans to eventually convert tolerances for any pre-existing crop group to tolerances with coverage under the revised crop group. This conversion will occur through the registration review process and in the course of evaluating new uses for a pesticide registration. Consequently, the Agency is proposing to update crop groupings or subgroupings for aluminum tris (O-ethylphosphonate), cyromazine, isoxaben, and sulfentrazone.

Also, EPA is proposing to modify certain tolerances for aluminum tris (O-ethylphosphonate) and cyromazine, and to establish a cherry tolerance for dichlobenil (concomitant with a proposed revocation of a stone fruit group tolerance that is no longer needed), and a new tolerance exemption for tartrazine. In addition, EPA is proposing to revise the tolerance expressions for p-chlorophenoxyacetic acid (to remove a metabolite that is not considered to be a risk concern and to revise it in accordance with current Agency practice) and dichlobenil (to revise it in accordance with current Agency practice), remove expired tolerances for disulfoton, correct the listing of a tolerance for thiacloprid, and correct the listing of significant figures for certain existing tolerances of specific pesticide active ingredients.

Detailed explanations for proposed modifications or establishments of tolerances or tolerance exemptions, or tolerance expression changes other than minor revisions in accordance with current Agency practice, can be found in the Human Health Risk Assessment for Registration Review and the Interim Registration Review Decision for the following: aluminum tris (O-ethylphosphonate), also known as fosetyl-Al, in docket EPA-HQ-OPP-2007-0379, p-chlorophenoxyacetic acid in docket EPA-HQ-OPP-2014-0544 and the p-Chlorophenoxyacetic Acid Product Chemistry and Residue Chemistry Chapter for the Registration Eligibility Decision (RED) is available in docket EPA-HQ-OPP-2006-0036, cyromazine in docket EPA-HQ-OPP-2006-0108, isoxaben in docket EPA-HQ-OPP-2007-1038, d-limonene in docket EPA-HQ-OPP-2010-0673, sulfentrazone in docket EPA-HQ-OPP-2009-0624, and tartrazine, which is a component of aquashade (see aquashade in docket EPA-HQ-OPP-2015-0639), available through EPA's electronic docket and comment system, regulations.gov at http://www.regulations.gov.

The selection of an individual tolerance level is based on crop field residue studies designed to produce the maximum residues under the existing or proposed product label. Generally, the level selected for a tolerance is a value slightly above the maximum residue found in such studies, provided that the tolerance is safe. The evaluation of whether a tolerance is safe is a separate inquiry. EPA favors raising a tolerance when data show that:

1. Lawful use (sometimes through a label change) may result in a higher residue level on the commodity; and

2. The tolerance remains safe, notwithstanding increased residue level allowed under the tolerance.

EPA also seeks to harmonize tolerances with international standards set by the Codex Alimentarius Commission, as described in Unit III.

EPA has found that the tolerances that are proposed in this document to be modified, are safe; i.e., that there is a reasonable certainty that no harm will result to infants and children from aggregate exposure to the pesticide chemical residues, in accordance with FFDCA section 408(b)(2)(C). (Note that changes to tolerance nomenclature do not constitute modifications of tolerances). These findings are discussed in detail in each Human Health Risk Assessment for Registration Review.

Also, in accordance with current Agency practice to describe more clearly the measurement of residues for tolerances and coverage of metabolites and degradates of a pesticide by the tolerances, EPA is proposing to make minor revisions to the introductory text for dichlobenil. The revisions to the tolerance expression do not substantively change the tolerance or, in any way, modify the permissible level of residues permitted by the tolerances.

In addition, EPA is proposing to revoke certain specific tolerances because either they are no longer needed or are associated with food uses that are no longer registered under FIFRA. Those instances where registrations were canceled were because the registrant failed to pay the required maintenance fee and/or the registrant voluntarily requested cancellation of one or more registered uses of the pesticide. It is EPA's general practice to propose revocation of those tolerances for residues of pesticide active ingredients on crop uses for which there are no active registrations under FIFRA, unless any person in comments on the proposal indicates a need for the tolerance to cover residues in or on imported commodities or legally treated domestic commodities.

1. Aluminum tris (O-ethylphosphonate). EPA on its own initiative, under FFDCA section 408(e), 21 U.S.C. 346a(e), is proposing to establish tolerances in 40 CFR 180.415(a) for aluminum tris (O-ethylphosphonate), also known as fosetyl-Al, residues in or on bushberry subgroup 13-07B at 40 ppm and fruit, pome, group 11-10 at 10 ppm concomitant with the revocation of the tolerances on bushberry subgroup 13B at 40 ppm and fruit, pome, group 11 at 10 ppm. Also, based on available residue data, the Agency determined that harmonization with Canadian MRLs for tolerances on caneberries, citrus fruit, and ginseng is possible. Therefore, based on its own initiative, the Agency is proposing to establish tolerances in 40 CFR 180.415(a) for aluminum tris (O-ethylphosphonate) residues in or on caneberry subgroup 13-07A at 0.05 ppm to harmonize with Canadian MRLs, and in or on fruit, citrus, group 10-10 at 9.0 ppm to harmonize with Canadian MRLs, concomitant with the revocation of the tolerances on caneberry subgroup 13A at 0.1 ppm and fruit, citrus, group 10 at 5.0 ppm. In addition, EPA is proposing to decrease the tolerance in 40 CFR 180.415(a) on ginseng from 0.1 to 0.05 ppm to harmonize with the Canadian MRL.

Also, in accordance with current Agency practice to list significant figures for tolerance values, EPA is proposing to list existing tolerances in 180.415(a) for pineapple at 0.10 ppm, pea, succulent at 0.30 ppm, onion, bulb at 0.50 ppm, tomato at 3.0 ppm, and onion, green at 10 ppm.

2. Carbon disulfide. Carbon disulfide is a degradate of sodium tetrathiocarbonate. In the Federal Register notice of November 10, 2010 (75 FR 69073) (FRL-8851-5), EPA announced its receipt of voluntary requests by registrants to cancel certain registrations, including the last sodium tetrathiocarbonate products registered for use on specific food commodities (almond, grape, grapefruit, lemon, orange, peach, plum, and prune) in the United States. In the Federal Register notice of February 25, 2011 (76 FR 10587) (FRL-8863-4), EPA published a cancellation order in follow-up to the November 10, 2010 notice and granted the requested product cancellations for sodium tetrathiocarbonate. EPA permitted the registrant to sell and distribute existing stocks of those sodium tetrathiocarbonate products until February 25, 2012 and persons other than the registrant to sell, distribute, and use existing stocks until supplies are exhausted. EPA believes that existing stocks are exhausted; i.e., more than 4 years after the registrant was no longer permitted to sell and distribute them, and therefore the tolerances for them are no longer needed and should be revoked. Consequently, EPA is proposing to revoke the tolerances in 40 CFR 180.467 for residues of carbon disulfide from the application of sodium tetrathiocarbonate in or on almond; almond, hulls; grape; grapefruit; lemon; orange, sweet; peach; and plum, prune, fresh.

3. p-Chlorophenoxyacetic acid (p-CPA or 4-CPA). In the 1997 RED for 4-CPA and the 1994 p-Chlorophenoxyacetic Acid Product Chemistry and Residue Chemistry Chapter for the RED, the Agency recommended approval of a registrant petition for the elimination of the metabolite p-chlorophenol from the tolerance expression, as it was not considered a metabolite of risk concern. Therefore, EPA is proposing in 40 CFR 180.202 to revise the introductory text (remove the metabolite p-chlorophenol from the tolerance expression) and also revise it in accordance with current Agency practice to describe more clearly the measurement and scope or coverage of tolerances to read as set out in the proposed regulatory text at the end of this document.

4. Cyromazine. The U.S. regulates residues of cyromazine on cyromazine only, which is not in harmony with the tolerance expression in Canada, which includes melamine, a metabolite of cyromazine. In the Federal Register of May 4, 2000 (65 FR 25857) (FRL-6556-3), EPA removed melamine from the U.S. tolerance expression for cyromazine since the Agency no longer considered melamine to be a residue of concern. EPA does not have any toxicological concerns for melamine that could result from the use of the pesticide cyromazine. In addition, the acute and chronic dietary risk assessments, and aggregate risk assessment for the registration review of cyromazine do not exceed the Agency's level of concern. The Agency determined that specific cyromazine tolerances increased for international harmonization are safe; i.e., there is a reasonable certainty that no harm will result from aggregate exposure to the pesticide chemical residue. Therefore, EPA has determined that it is appropriate to numerically harmonize certain U.S. tolerances with international MRLs that are higher. On its own initiative, under FFDCA section 408(e), 21 U.S.C. 346a(e), in order to harmonize with the level of Canadian MRLs for cyromazine, EPA is proposing to increase tolerances in 40 CFR 180.414(a)(1) for cyromazine residues in or on mushroom from 1.0 to 8.0 ppm, pepper from 1.0 to 3.0 ppm, tomato from 0.5 to 1.0 ppm, vegetable, brassica, leafy, group 5, except broccoli from 10.0 to 35 ppm, vegetable, leafy, except brassica, group 4 from 7.0 to 10 ppm, and milk from 0.05 to 0.10 ppm; and revoke the tolerance on onion, bulb at 0.2 ppm and concomitantly establish a tolerance on onion, bulb, subgroup 3-07A at 0.30 ppm.

Also, EPA on its own initiative, under FFDCA section 408(e), 21 U.S.C. 346a(e), in order to harmonize with certain higher Codex MRLs (defined as cyromazine residues), believes the tolerances in 40 CFR 180.414(a)(1) for cyromazine residues in or on “kidney” of cattle, goats, hogs, horses, and sheep should be increased from 0.2 to 0.30 ppm; and “meat byproducts, except kidney” of cattle, goats, hogs, horses, and sheep should be increased from 0.05 to 0.30 ppm. Because tolerances for “kidney” and “meat byproducts, except kidney” for cattle, goats, hogs, horses, and sheep would be revised to the same tolerance levels at 0.30 ppm, EPA is proposing to revoke the existing tolerances in 40 CFR 180.414(a)(1) for cyromazine residues in or on cattle, kidney; goat, kidney; hog, kidney; horse, kidney; sheep, kidney; cattle, meat byproducts, except kidney; goat, meat byproducts, except kidney; hog, meat byproducts, except kidney; horse, meat byproducts, except kidney; and sheep, meat byproducts, except kidney and to concomitantly establish tolerances at 0.30 ppm for cattle, meat byproducts; goat, meat byproducts; hog, meat byproducts; horse, meat byproducts; and sheep, meat byproducts.

In addition, EPA on its own initiative, under FFDCA section 408(e), 21 U.S.C. 346a(e), in order to harmonize with Codex MRLs, is proposing to increase tolerances in 40 CFR 180.414(a)(1) for cyromazine residues in or on egg from 0.25 to 0.30 ppm; cattle, meat; goat, meat; hog, meat; horse, meat; and sheep, meat from 0.05 to 0.30 ppm; mango from 0.3 to 0.50 ppm; poultry, meat (from chicken layer hens and chicken breeder hens only) from 0.05 to 0.10 ppm; poultry, meat byproducts (from chicken layer hens and chicken breeder hens only) from 0.05 to 0.20 ppm; and vegetable, cucurbit, group 9 from 1.0 to 2.0 ppm.

Also, registrations exist for use of cyromazine for fly control in mushroom compost and as a feed-through fly control agent for chicken manure, and such cyromazine-treated manure from chickens may be used as a soil fertilizer supplement. A greenhouse rotational crop study showed a maximum cyromazine residue level of 0.08 ppm in spring wheat straw from an application rate of 0.05 lb active ingredient (ai) per acre (A). Data from a magnitude of residue study in poultry excreta topically treated with cyromazine showed residues of 40 ppm in manure at day 24. At 40 ppm (40 mg ai/kg manure or 18.2 mg ai/pound (lb) manure), the maximum label application rate of 4 tons treated manure per acre (8000 lb manure/A) is calculated to result in residues of cyromazine of 0.15 kg ai/A or 0.33 lb ai/A, which is 7X (0.33 lb ai/A vs. 0.05 lb ai/A) the rate used in the greenhouse study. Therefore, to support current registrations, the Agency determined that at the maximum application rate, indirect or inadvertent residue tolerances at 0.60 ppm (7 × 0.08 ppm) were needed for crops that do not have current tolerances established based on direct application of cyromazine. Consequently, EPA is proposing to re-designate 40 CFR 180.414(d) into § 180.414(d)(1), establish § 180.414(d)(2), and in newly designated 40 CFR 180.414(d)(2) to add introductory text and establish tolerances for indirect and inadvertent residues of cyromazine resulting from crops grown in soil amended with cyromazine treated fertilizer at 0.60 ppm for the following: grain, cereal, forage, fodder and straw, group 16; grain, cereal, group 15; herbs and spices, group 19; oilseed, group 20; onion, bulb, subgroup 3-07A; strawberry; vegetable, foliage of legume, group 7; vegetable, fruiting, group 8-10; vegetable, leaves of root and tuber, group 2; vegetable, legume, group 6; and vegetable, root and tuber, group 1.

Also, in accordance with current Agency practice to list significant figures for tolerance values, EPA is proposing to list existing tolerances in 40 CFR 180.414(a)(1) for garlic; garlic, great-headed, bulb; rakkyo, bulb; and shallot, bulb at 0.20 ppm, potato at 0.80 ppm, and cabbage, abyssinian; cabbage, seakale; hanover salad, leaves; and turnip, greens at 10 ppm, and tolerances in newly designated 40 CFR 180.414(d)(1) for cotton, undelinted seed at 0.10 ppm, and corn, sweet, kernel plus cob with husks removed; corn, sweet, forage; corn, sweet, stover; radish, roots; and radish, tops at 0.50 ppm.

5. Dichlobenil. Cherry is the only registered stone fruit for dichlobenil since 1995, and therefore, with the exception of a need for a tolerance to cover cherry, the crop group tolerance for stone fruit is no longer needed and should be revoked. Consequently, in 40 CFR 180.231 for dichlobenil residues of concern, EPA is proposing to revoke the tolerance on fruit, stone, group 12 at 0.15 ppm and to concomitantly establish a tolerance on cherry at 0.15 ppm.

In accordance with current Agency practice to describe more clearly the measurement and scope or coverage of tolerances, EPA is proposing to revise the introductory text in 40 CFR 180.231(a) to read as set out in the proposed regulatory text at the end of this document. Also, in accordance with current Agency practice to list significant figures for tolerance values, EPA is proposing to list existing tolerances in § 180.231(a) for cranberry and hazelnut at 0.10 ppm, and apple and pear at 0.50 ppm.

6. Disulfoton. Because the tolerances in 40 CFR 180.183 for disulfoton residues of concern all expired from December 31, 2013 to December 31, 2014, EPA is proposing to remove that section in its entirety.

7. Isoxaben. EPA on its own initiative, under FFDCA section 408(e), 21. U.S.C. 346a(e), is proposing to establish a tolerance in 40 CFR 180.650(a) for isoxaben residues in or on nut, tree, group 14-12 at 0.02 ppm. The Agency is also proposing to revoke the existing tolerances in 40 CFR 180.650(a) for nut, tree, group 14 at 0.02 ppm and pistachio at 0.02 ppm since they will be superseded by the newly established tolerance.

8. d-Limonene. Currently, under 40 CFR 180.539, subpart C (the subpart for specific tolerances), a tolerance exemption for d-limonene exists when used in insect-repellent tablecloths and in insect-repellent strips in food- or feed-handling establishments. Although there are no active registrations in the U.S. for those d-limonene uses, there are active registrations for d-limonene uses as an insecticide in kitchens and pantries. As an active ingredient, it is also registered for food or feed crop uses as an herbicide. In order to support both the existing herbicidal and insecticidal uses of d-limonene, the Agency determined that an exemption from the requirement of a tolerance should be established for each of them under 40 CFR part 180, subpart D, the subpart for exemptions from tolerances. Therefore, EPA is proposing to establish two tolerance exemptions under 40 CFR part 180, subpart D, in newly designated § 180.1342, to cover both registered uses of d-limonene concomitant with the revocation of the tolerance exemption in 40 CFR 180.539, in subpart C, by removing that section in its entirety.

9. Oxydemeton-methyl (S-(2-(Ethylsulfinyl)ethyl) O,O-dimethyl phosphorothioate). In the Federal Register notice of February 20, 2013 (78 FR 11881) (FRL-9378-9), EPA announced its receipt of voluntary requests by registrants to cancel certain registrations, including the last oxydemeton-methyl products registered for use on food commodities in the United States. In the Federal Register notice of May 1, 2013 (78 FR 25438) (FRL-9384-7), EPA published a cancellation order in follow-up to the February 20, 2013 notice and granted the requested product cancellations for oxydemeton methyl. EPA permitted the registrant to sell and distribute existing stocks of those oxydemeton methyl products until December 31, 2014 and persons other than the registrant to sell and distribute until December 31, 2016, and end users to use existing stocks until supplies are exhausted. EPA believes that existing stocks are likely to be exhausted by December 31, 2017. Therefore, EPA is proposing to revoke the tolerances in 40 CFR 180.330(a)(1) for oxydemeton-methyl residues of concern in or on alfalfa, forage; alfalfa, hay; bean, lima; beet, sugar, roots; beet, sugar, tops; broccoli; Brussels sprouts; cabbage; cauliflower; clover, forage; clover, hay; corn, sweet, forage; corn, sweet, kernel plus cob with husks removed; corn, sweet, stover; cotton, undelinted seed; cucumber; eggplant; grapefruit; hazelnut; lemon; lettuce, head; melon; onion, bulb; orange; pepper; peppermint, tops; pumpkin; safflower, seed; sorghum, forage, forage; sorghum, grain, forage; sorghum, grain, grain; spearmint, tops; squash, summer; squash, winter; strawberry; and walnut; in 40 CFR 180.330(a)(2) for cattle, fat; cattle, meat; cattle, meat byproducts; egg; goat, fat; goat, meat; goat, meat byproducts; hog, fat; hog, meat; hog, meat byproducts; horse, fat; horse, meat; horse, meat byproducts; milk; poultry, fat; poultry, meat; poultry, meat byproducts; sheep, fat; sheep, meat; and sheep, meat byproducts; and in 40 CFR 180.330(c) for broccoli raab; each with an expiration/revocation date of December 31, 2017.

Also, in accordance with current Agency practice to list significant figures for tolerance values, EPA is proposing to list existing tolerances in § 180.330(a)(1) for bean, lima; melon; and pumpkin at 0.20 ppm, beet, sugar, roots and squash, winter at 0.30 ppm, and beet, sugar, tops and corn, sweet, kernel plus cob with husks removed at 0.50 ppm, and alfalfa, hay at 11 ppm.

10. Propachlor. Because there have been no active propachlor registrations for over 5 years, there is no longer a need for the tolerances. Therefore, the propachlor tolerances should be revoked. Consequently, EPA is proposing to revoke the tolerances in 40 CFR 180.211(a) for propachlor residues of concern in or on cattle, fat; cattle, kidney; cattle, meat; cattle, meat byproducts, except kidney; corn, field, forage; corn, field, grain; corn, field, stover; corn, sweet, forage; goat, fat; goat, kidney; goat, meat; goat, meat byproducts, except kidney; hog, fat; hog, meat; hog, meat byproducts; horse, fat; horse, kidney; horse, meat; horse, meat byproducts, except kidney; milk; sheep, fat; sheep, kidney; sheep, meat; sheep, meat byproducts, except kidney; sorghum, forage, forage; sorghum, grain, forage; sorghum, grain, grain; and sorghum, grain, stover.

11. Sulfentrazone. As described previously in Unit II of this document, regarding crop group updates, EPA on its own initiative, under FFDCA section 408(e), 21. U.S.C. 346a(e), is proposing to establish a tolerance in 40 CFR 180.498(a)(2) for sulfentrazone residues of concern in or on nut, tree, group 14-12 at 0.15 ppm. The Agency is also proposing to revoke the existing tolerances in 40 CFR 180.498(a)(2) for nut, tree, group 14 at 0.15 ppm and pistachio at 0.15 ppm since they will be superseded by the newly established tolerance. Also, in order to conform to current Agency practice, EPA is proposing in 40 CFR 180.498(a)(2) to revise the commodity terminology for “flax” to “flax, seed.” In addition, in accordance with current Agency practice to list significant figures for tolerance values, EPA is proposing to list existing tolerances for indirect or inadvertent residues in 40 CFR 180.498(d) for grain, cereal, forage, fodder and straw, group 16, except sweet corn; stover; and grain, cereal, group 15, except sweet corn at 0.10 ppm; grain, cereal, forage, fodder and straw, group 16, except sweet corn; forage; and grain, cereal, forage, fodder and straw, group 16, except sweet corn; hay at 0.20 ppm; and grain, cereal, forage, fodder and straw, group 16, except sweet corn; straw at 0.60 ppm.

12. Tartrazine. In order to support existing registrations for tartrazine, a dye also known as F.D.&C. Yellow No. 5 or Acid Yellow 23, when used as an aquatic plant control agent, EPA recommended (in the 2005 RED for Aquashade) that an exemption from the requirement of a tolerance should be established since treated water may be used for irrigation of crops, livestock watering, and fishing. Therefore, EPA is proposing to establish an exemption from a tolerance for tartrazine when used as an aquatic plant control agent under 40 CFR part 180, subpart D, in newly designated § 180.1343.

13. Thiacloprid. In the Federal Register proposed and final rules of July 22, 2015 (80 FR 43373) (FRL-9929-12) and June 1, 2016 (81 FR 34902) (FRL-9943-73), EPA inadvertently revised the listing for the tolerance at 0.05 ppm in 40 CFR 180.594(a) from Plum subgroup 12-12C to Peach subgroup 12-12C. Consequently, EPA is proposing in 40 CFR 180.594(a) to correct the listing for the tolerance as Plum subgroup 12-12C at 0.05 ppm.

14. Thiodicarb. In the Federal Register of October 17, 2014 (79 FR 62439) (FRL-9916-78), among other actions requested, EPA announced receipt of request from the registrant to amend the sole technical registration to delete the last uses of thiodicarb for broccoli, cabbage, cauliflower, sweet corn, and leafy vegetables. EPA approved the use deletions effective November 17, 2014 since the registrant did not withdraw the request and there were no significant public comments. Previously, the last end-use registrations of thiodicarb for broccoli, cabbage, cauliflower, sweet corn, and leafy vegetables had been canceled, due to non-payment of the maintenance fee, in the Federal Register of June 26, 2013 (78 FR 38319) (FRL-9388-4), and permitted the registrant to sell and distribute existing stocks until January 15, 2014. Therefore, EPA believes that existing stocks of end-use registrations for these thiodicarb uses were exhausted two to three years ago, and the tolerances are no longer needed. Consequently, EPA is proposing to revoke the tolerances in 40 CFR 180.407(a) for broccoli; cabbage; cauliflower; corn, sweet, kernel plus cob with husks removed; and vegetable, leafy, except brassica, group 4.

B. What is the Agency's authority for taking this action?

A “tolerance” represents the maximum level for residues of pesticide chemicals legally allowed in or on raw agricultural commodities and processed foods. Section 408 of FFDCA, 21 U.S.C. 346a, authorizes the establishment of tolerances, exemptions from tolerance requirements, modifications in tolerances, and revocation of tolerances for residues of pesticide chemicals in or on raw agricultural commodities and processed foods. Without a tolerance or exemption, food containing pesticide residues is considered to be unsafe and therefore “adulterated” under FFDCA section 402(a), 21 U.S.C. 342(a). Such food may not be distributed in interstate commerce, 21 U.S.C. 331(a). For a food-use pesticide to be sold and distributed, the pesticide must not only have appropriate tolerances under the FFDCA, but also must be registered under FIFRA, 7 U.S.C. 136 et seq. Food-use pesticides not registered in the United States must have tolerances in order for commodities treated with those pesticides to be imported into the United States.

EPA's general practice is to propose revocation of tolerances for residues of pesticide active ingredients on crops for which FIFRA registrations no longer exist and on which the pesticide may therefore no longer be used in the United States. EPA has historically been concerned that retention of tolerances that are not necessary to cover residues in or on legally treated foods may encourage misuse of pesticides within the United States. Nonetheless, EPA will establish and maintain tolerances even when corresponding domestic uses are canceled if the tolerances, which EPA refers to as “import tolerances,” are necessary to allow importation into the United States of food containing such pesticide residues. However, where there are no imported commodities that require these import tolerances, the Agency believes it is appropriate to revoke tolerances for unregistered pesticides in order to prevent potential misuse.

Furthermore, as a general matter, the Agency believes that retention of import tolerances not needed to cover any imported food may result in unnecessary restriction on trade of pesticides and foods. Under FFDCA section 408, a tolerance may only be established or maintained if EPA determines that the tolerance is safe based on a number of factors, including an assessment of the aggregate exposure to the pesticide and an assessment of the cumulative effects of such pesticide and other substances that have a common mechanism of toxicity. In doing so, EPA must consider potential contributions to such exposure from all tolerances. If the cumulative risk is such that the tolerances in aggregate are not safe, then every one of these tolerances is potentially vulnerable to revocation. Furthermore, if unneeded tolerances are included in the aggregate and cumulative risk assessments, the estimated exposure to the pesticide would be inflated. Consequently, it may be more difficult for others to obtain needed tolerances or to register needed new uses. To avoid potential trade restrictions, the Agency is proposing to revoke tolerances for residues on crops uses for which FIFRA registrations no longer exist, unless someone expresses a need for such tolerances. Through this proposed rule, the Agency is inviting individuals who need these import tolerances to identify themselves and the tolerances that are needed to cover imported commodities.

Parties interested in retention of the tolerances should be aware that additional data may be needed to support retention. These parties should be aware that, under FFDCA section 408(f), if the Agency determines that additional information is reasonably required to support the continuation of a tolerance, EPA may require that parties interested in maintaining the tolerances provide the necessary information. If the requisite information is not submitted, EPA may issue an order revoking the tolerance at issue.

C. When do these actions become effective?

EPA is proposing that the actions herein become effective 6 months after the date of publication of the final rule in the Federal Register. EPA is proposing this effective date for these actions to allow a reasonable interval for producers in exporting members of the World Trade Organization's (WTO's) Sanitary and Phytosanitary (SPS) Measures Agreement to adapt to the requirements of a final rule. With the exception of the proposed revocation of tolerances with expiration dates for oxydemeton-methyl, the Agency believes that existing stocks of pesticide products labeled for the uses associated with the tolerances proposed for revocation have been completely exhausted and that treated commodities have cleared the channels of trade. Where EPA is proposing revocation with expiration dates for oxydemeton-methyl, the Agency believes that this revocation date allows users to exhaust stocks and allows sufficient time for passage of treated commodities through the channels of trade. If you have comments regarding existing stocks and whether the effective date allows sufficient time for treated commodities to clear the channels of trade, please submit comments as described under SUPPLEMENTARY INFORMATION.

Any commodities listed in this proposal treated with the pesticides subject to this proposal, and in the channels of trade following the tolerance revocations, shall be subject to FFDCA section 408(1)(5), as established by FQPA. Under this unit, any residues of these pesticides in or on such food shall not render the food adulterated so long as it is shown to the satisfaction of the Food and Drug Administration that:

1. The residue is present as the result of an application or use of the pesticide at a time and in a manner that was lawful under FIFRA, and

2. The residue does not exceed the level that was authorized at the time of the application or use to be present on the food under a tolerance or exemption from tolerance. Evidence to show that food was lawfully treated may include records that verify the dates when the pesticide was applied to such food.

III. International Residue Limits

In making its tolerance decisions, EPA seeks to harmonize U.S. tolerances with international standards whenever possible, consistent with U.S. food safety standards and agricultural practices. EPA considers the international maximum residue limits (MRLs) established by the Codex Alimentarius Commission (Codex), as required by FFDCA section 408(b)(4). The Codex Alimentarius is a joint United Nations Food and Agriculture Organization/World Health Organization food standards program, and it is recognized as an international food safety standards-setting organization in trade agreements to which the United States is a party. EPA may establish a tolerance that is different from a Codex MRL; however, FFDCA section 408(b)(4) requires that EPA explain the reasons for departing from the Codex level.

The Codex has not established a MRL for aluminum tris (O-ethylphosphonate), carbon disulfide (degradate of sodium tetrathiocarbonate), p-chlorophenoxyacetic acid (p-CPA), isoxaben, d-limonene, propachlor, sulfentrazone, tartrazine, thiodicarb, or dichlobenil in or on cherry.

The Codex has established MRLs for cyromazine in or on [cucumber at 2 mg/kg; edible offal (mammalian) and eggs at 0.3 mg/kg; mango at 0.5 mg/kg; poultry meat at 0.1 mg/kg; and poultry, edible offal at 0.2 mg/kg. These MRLs are currently different, but the same as certain proposed U.S. tolerances (to harmonize with Codex MRLs) for cyromazine in the United States.

The Codex has established MRLs for oxydemeton-methyl in or on various commodities, including cauliflower and sugar beet at 0.01 mg/kg; fat of cattle, poultry, and sheep, meat of cattle, hogs, sheep, and poultry, and cotton seed at 0.05 mg/kg; and lemon at 0.2 mg/kg. These MRLs are different than the tolerances, proposed for revocation, for oxydemeton-methyl in the United States because of differences in use patterns, and/or good agricultural practices.

IV. Statutory and Executive Order Reviews

In this proposed rule, EPA is proposing to establish tolerances under FFDCA section 408(e), and also modify and revoke specific tolerances established under FFDCA section 408. The Office of Management and Budget (OMB) has exempted these types of actions (e.g., establishment and modification of a tolerance and tolerance revocation for which extraordinary circumstances do not exist) from review under Executive Order 12866, entitled “Regulatory Planning and Review” (58 FR 51735, October 4, 1993). Because this proposed rule has been exempted from review under Executive Order 12866 due to its lack of significance, this proposed rule is not subject to Executive Order 13211, entitled “Actions Concerning Regulations That Significantly Affect Energy Supply, Distribution, or Use” (66 FR 28355, May 22, 2001). This proposed rule does not contain any information collections subject to OMB approval under the Paperwork Reduction Act (PRA) (44 U.S.C. 3501 et seq.), or impose any enforceable duty or contain any unfunded mandate as described under Title II of the Unfunded Mandates Reform Act (UMRA) (2 U.S.C. 1501 et seq.). Nor does it require any special considerations as required by Executive Order 12898, entitled “Federal Actions to Address Environmental Justice in Minority Populations and Low-Income Populations” (59 FR 7629, February 16, 1994); or OMB review or any other Agency action under Executive Order 13045, entitled “Protection of Children from Environmental Health Risks and Safety Risks” (62 FR 19885, April 23, 1997). This proposed rule does not involve any technical standards that would require Agency consideration of voluntary consensus standards pursuant to section 12(d) of the National Technology Transfer and Advancement Act (NTTAA) (15 U.S.C. 272 note). Pursuant to the Regulatory Flexibility Act (RFA) (5 U.S.C. 601 et seq.), the Agency previously assessed whether establishment of tolerances, exemptions from tolerances, raising of tolerance levels, expansion of exemptions, or revocations might significantly impact a substantial number of small entities and concluded that, as a general matter, these actions do not impose a significant economic impact on a substantial number of small entities. These analyses for tolerance establishments and modifications, and for tolerance revocations were published in the Federal Register of May 4, 1981 (46 FR 24950) and December 17, 1997 (62 FR 66020) (FRL-5753-1), respectively, and were provided to the Chief Counsel for Advocacy of the Small Business Administration. Taking into account this analysis, and available information concerning the pesticides listed in this proposed rule, the Agency hereby certifies that this proposed rule will not have a significant negative economic impact on a substantial number of small entities. In a memorandum dated May 25, 2001, EPA determined that eight conditions must all be satisfied in order for an import tolerance or tolerance exemption revocation to adversely affect a significant number of small entity importers, and that there is a negligible joint probability of all eight conditions holding simultaneously with respect to any particular revocation. (This Agency document is available in the docket of this proposed rule). Furthermore, for the pesticides named in this proposed rule, the Agency knows of no extraordinary circumstances that exist as to the present proposed rule that would change EPA's previous analysis. Any comments about the Agency's determination should be submitted to the EPA along with comments on the proposed rule, and will be addressed prior to issuing a final rule. In addition, the Agency has determined that this proposed rule will not have a substantial direct effect on States, on the relationship between the national government and the States, or on the distribution of power and responsibilities among the various levels of government, as specified in Executive Order 13132, entitled “Federalism” (64 FR 43255, August 10, 1999). Executive Order 13132 requires EPA to develop an accountable process to ensure “meaningful and timely input by State and local officials in the development of regulatory policies that have federalism implications.” “Policies that have federalism implications” is defined in the Executive order to include regulations that have “substantial direct effects on the States, on the relationship between the national government and the States, or on the distribution of power and responsibilities among the various levels of government.” This proposed rule directly regulates growers, food processors, food handlers, and food retailers, not States. This proposed rule does not alter the relationships or distribution of power and responsibilities established by Congress in the preemption provisions of FFDCA section 408(n)(4). For these same reasons, the Agency has determined that this proposed rule does not have any “tribal implications” as described in Executive Order 13175, entitled “Consultation and Coordination with Indian Tribal Governments” (65 FR 67249, November 9, 2000). Executive Order 13175, requires EPA to develop an accountable process to ensure “meaningful and timely input by tribal officials in the development of regulatory policies that have tribal implications.” “Policies that have tribal implications” is defined in the Executive order to include regulations that have “substantial direct effects on one or more Indian tribes, on the relationship between the Federal Government and the Indian tribes, or on the distribution of power and responsibilities between the Federal Government and Indian tribes.” This proposed rule will not have substantial direct effects on tribal governments, on the relationship between the Federal Government and Indian tribes, or on the distribution of power and responsibilities between the Federal Government and Indian tribes, as specified in Executive Order 13175. Thus, Executive Order 13175 does not apply to this proposed rule.

List of Subjects in 40 CFR Part 180

Environmental protection, Administrative practice and procedure, Agricultural commodities, Pesticides and pests, Reporting and recordkeeping requirements.

Dated: June 23, 2017.
Richard P. Keigwin, Jr.,
Acting Director, Office of Pesticide Programs.

Therefore, it is proposed that 40 CFR part 180 be amended as follows:

PART 180—[AMENDED]

1. The authority citation for part 180 continues to read as follows:

Authority: 21 U.S.C. 321(q), 346a and 371.

§ 180.183 [Removed]

2. Remove § 180.183.

3. In § 180.202, revise the introductory text in paragraph (a) to read as follows:

§ 180.202 p-Chlorophenoxyacetic acid; tolerances for residues.

(a) General. A tolerance is established for residues of the plant regulator p-chlorophenoxyacetic acid, including its metabolites and degradates, in or on the commodity in the table in this paragraph (a). Compliance with the tolerance level specified in this paragraph (a) is to be determined by measuring only p-chlorophenoxyacetic acid, in or on the commodity.

* * * * *

§ 180.211 [Removed]

4. Remove § 180.211.

5. In § 180.231, revise paragraph (a) to read as follows:

§ 180.231 Dichlobenil; tolerances for residues.

(a) General. Tolerances are established for residues of dichlobenil, including its metabolites and degradates, in or on the commodities in the table in this paragraph (a). Compliance with the tolerance levels specified in this paragraph (a) is to be determined by measuring only the sum of dichlobenil (2,6-dichlorobenzonitrile) and its BAM metabolite (2,6-dichlorobenzamide), calculated as the stoichiometric equivalent of dichlobenil, in or on the commodity.

Commodity | Parts per million
Apple | 0.50
Bushberry subgroup 13-07B | 0.15
Caneberry subgroup 13-07A | 0.10
Cherry | 0.15
Cranberry | 0.10
Grape | 0.15
Hazelnut | 0.10
Pear | 0.50
Rhubarb | 0.06

* * * * *

6. In § 180.330, revise the tables in paragraphs (a)(1), (a)(2), and (c) to read as follows:

§ 180.330 S-(2-(Ethylsulfinyl)ethyl) O,O-dimethyl phosphorothioate; tolerances for residues.

(a) * * *

(1) * * *

Commodity | Parts per million | Expiration/ revocation date
Alfalfa, forage | 5.0 | 12/31/17
Alfalfa, hay | 11 | 12/31/17
Bean, lima | 0.20 | 12/31/17
Beet, sugar, roots | 0.30 | 12/31/17
Beet, sugar, tops | 0.50 | 12/31/17
Broccoli | 1.0 | 12/31/17
Brussels sprouts | 1.0 | 12/31/17
Cabbage | 2.0 | 12/31/17
Cauliflower | 1.0 | 12/31/17
Clover, forage | 5.0 | 12/31/17
Clover, hay | 10.0 | 12/31/17
Corn, sweet, forage | 1.0 | 12/31/17
Corn, sweet, kernel plus cob with husks removed | 0.50 | 12/31/17
Corn, sweet, stover | 3.0 | 12/31/17
Cotton, undelinted seed | 0.02 | 12/31/17
Cucumber | 1.0 | 12/31/17
Eggplant | 1.0 | 12/31/17
Grapefruit | 1.0 | 12/31/17
Hazelnut | 0.05 | 12/31/17
Lemon | 1.0 | 12/31/17
Lettuce, head | 2.0 | 12/31/17
Melon | 0.20 | 12/31/17
Onion, bulb | 0.05 | 12/31/17
Orange | 1.0 | 12/31/17
Pepper | 0.75 | 12/31/17
Peppermint, tops | 12.5 | 12/31/17
Pumpkin | 0.20 | 12/31/17
Safflower, seed | 1.0 | 12/31/17
Sorghum, forage, forage | 2.0 | 12/31/17
Sorghum, grain, forage | 2.0 | 12/31/17
Sorghum, grain, grain | 0.75 | 12/31/17
Spearmint, tops | 12.5 | 12/31/17
Squash, summer | 1.0 | 12/31/17
Squash, winter | 0.30 | 12/31/17
Strawberry | 2.0 | 12/31/17
Walnut | 0.05 | 12/31/17

(2) * * *

Commodity | Parts per million | Expiration/ revocation date
Cattle, fat | 0.01 | 12/31/17
Cattle, meat | 0.01 | 12/31/17
Cattle, meat byproducts | 0.01 | 12/31/17
Egg | 0.01 | 12/31/17
Goat, fat | 0.01 | 12/31/17
Goat, meat | 0.01 | 12/31/17
Goat, meat byproducts | 0.01 | 12/31/17
Hog, fat | 0.01 | 12/31/17
Hog, meat | 0.01 | 12/31/17
Hog, meat byproducts | 0.01 | 12/31/17
Horse, fat | 0.01 | 12/31/17
Horse, meat | 0.01 | 12/31/17
Horse, meat byproducts | 0.01 | 12/31/17
Milk | 0.01 | 12/31/17
Poultry, fat | 0.01 | 12/31/17
Poultry, meat | 0.01 | 12/31/17
Poultry, meat byproducts | 0.01 | 12/31/17
Sheep, fat | 0.01 | 12/31/17
Sheep, meat | 0.01 | 12/31/17
Sheep, meat byproducts | 0.01 | 12/31/17

* * * * *

(c) * * *

Commodity | Parts per million | Expiration/ revocation date
Broccoli raab | 2.0 | 12/31/17

* * * * *

§ 180.407 [Amended]

7. In § 180.407, remove the entries for “Broccoli,” “Cabbage,” “Cauliflower,” “Corn, sweet, kernel plus cob with husks removed,” and “Vegetable, leafy, except brassica, group 4” from the table in paragraph (a).

8. In § 180.414, revise the table in paragraph (a)(1), and revise paragraph (d) to read as follows:

§ 180.414 Cyromazine; tolerances for residues.

(a) * * *

(1) * * *

Commodity | Parts per million
Bean, dry, except cowpea | 3.0
Bean, lima | 1.0
Bean, succulent | 2.0
Broccoli | 1.0
Cabbage, abyssinian | 10
Cabbage, seakale | 10
Cattle, fat | 0.05
Cattle, meat | 0.30
Cattle, meat byproducts | 0.30
Egg | 0.30
Garlic | 0.20
Garlic, great-headed, bulb | 0.20
Goat, fat | 0.05
Goat, meat | 0.30
Goat, meat byproducts | 0.30
Hanover salad, leaves | 10
Hog, fat | 0.05
Hog, meat | 0.30
Hog, meat byproducts | 0.30
Horse, fat | 0.05
Horse, meat | 0.30
Horse, meat byproducts | 0.30
Leek | 3.0
Mango ¹ | 0.50
Milk | 0.10
Mushroom | 8.0
Onion, bulb, subgroup 3-07A | 0.30
Onion, green | 3.0
Onion, potato | 3.0
Onion, tree | 3.0
Onion, welsh | 3.0
Pepper | 3.0
Potato | 0.80
Poultry, fat (from chicken layer hens and chicken breeder hens only) | 0.05
Poultry, meat (from chicken layer hens and chicken breeder hens only) | 0.10
Poultry, meat byproducts (from chicken layer hens and chicken breeder hens only) | 0.20
Rakkyo, bulb | 0.20
Shallot, bulb | 0.20
Shallot, fresh leaves | 3.0
Sheep, fat | 0.05
Sheep, meat | 0.30
Sheep, meat byproducts | 0.30
Tomato | 1.0
Turnip, greens | 10
Vegetable, brassica, leafy, group 5, except broccoli | 35
Vegetable, leafy, except brassica, group 4 | 10
Vegetable, cucurbit, group 9 | 2.0
¹ There are no U.S. registrations on mango as of May 4, 2000.

* * * * *

(d)(1) Indirect or inadvertent residues. Tolerances are established for indirect or inadvertent residues of the insecticide cyromazine, including its metabolites and degradates, in or on the commodities in the table in this paragraph (d)(1) when present therein as a result of the application of cyromazine to growing crops listed in paragraph (a)(1) of this section. Compliance with the tolerance levels specified in this paragraph (d)(1) is to be determined by measuring only cyromazine, N-cyclopropyl-1,3,5-triazine-2,4,6-triamine, in or on the commodity.

Commodity | Parts per million
Cotton, undelinted seed | 0.10
Corn, sweet, kernel plus cob with husks removed | 0.50
Corn, sweet, forage | 0.50
Corn, sweet, stover | 0.50
Radish, roots | 0.50
Radish, tops | 0.50

(2) Indirect or inadvertent residues. Tolerances are established for indirect or inadvertent residues of the insecticide cyromazine, including its metabolites and degradates, in or on the commodities in the table in this paragraph (d)(2) when present therein as a result of the application of fertilizer containing cyromazine to growing crops that do not have a higher tolerance in paragraph (a)(1) of this section. Compliance with the tolerance levels specified in this paragraph (d)(2) is to be determined by measuring only cyromazine, N-cyclopropyl-1,3,5-triazine-2,4,6-triamine, in or on the commodity.

Commodity | Parts per million
Grain, cereal, forage, fodder and straw, group 16 | 0.60
Grain, cereal, group 15 | 0.60
Herbs and spices, group 19 | 0.60
Oilseed, group 20 | 0.60
Onion, bulb, subgroup 3-07A | 0.60
Strawberry | 0.60
Vegetable, foliage of legume, group 7 | 0.60
Vegetable, fruiting, group 8-10 | 0.60
Vegetable, leaves of root and tuber, group 2 | 0.60
Vegetable, legume, group 6 | 0.60
Vegetable, root and tuber, group 1 | 0.60

9. In § 180.415, revise the table in paragraph (a) to read as follows:

§ 180.415 Aluminum tris (O-ethylphosphonate); tolerances for residues.

(a) * * *

Commodity | Parts per million
Avocado | 25
Banana | 3.0
Bushberry subgroup 13-07B | 40
Caneberry subgroup 13-07A | 0.05
Cranberry | 0.5
Fruit, citrus, group 10-10 | 9.0
Fruit, pome, group 11-10 | 10
Ginseng | 0.05
Hop, dried cones | 45
Juneberry | 40
Lingonberry | 40
Nut, macadamia | 0.20
Onion, bulb | 0.50
Onion, green | 10
Pea, succulent | 0.30
Pepper/eggplant, subgroup 8-10B | 0.01
Pineapple | 0.10
Salal | 40
Strawberry | 75
Tomato | 3.0
Turnip, greens | 40
Turnip, roots | 15
Vegetable, brassica, leafy, group 5 | 60
Vegetable, cucurbit, group 9 | 15
Vegetable, leafy, except brassica, group 4 | 100

* * * * *

§ 180.467 [Removed]

10. Remove § 180.467.

11. In § 180.498, revise the tables in paragraphs (a)(2) and (d) to read as follows:

§ 180.498 Sulfentrazone; tolerances for residues.

(a) * * *

(2) * * *

Commodity | Parts per million
Apple | 0.15
Asparagus | 0.15
Berry and small fruit, group 13-07 | 0.15
Brassica, head and stem, subgroup 5A | 0.20
Brassica, leafy greens, subgroup 5B | 0.40
Corn, field, forage | 0.20
Corn, field, grain | 0.15
Corn, field, stover | 0.30
Flax, seed | 0.15
Fruit, citrus, group 10-10 | 0.15
Horseradish | 0.20
Melon, subgroup 9A | 0.15
Nut, tree, group 14-12 | 0.15
Pea and bean, dried shelled, except soybean, subgroup 6C | 0.15
Pea, succulent | 0.15
Peanut | 0.20
Peanut, meal | 0.40
Peppermint, tops | 0.30
Rhubarb | 0.15
Spearmint, tops | 0.30
Sugarcane, cane | 0.15
Sugarcane, molasses | 0.20
Sunflower subgroup 20B | 0.20
Turnip, roots | 0.15
Turnip, tops | 0.60
Vegetable, fruiting, group 8-10 | 0.15
Vegetable, soybean, succulent | 0.15
Vegetable, tuberous and corm, subgroup 1C | 0.15

* * * * *

(d) * * *

Commodity | Parts per million
Grain, cereal (excluding sweet corn), hulls | 0.30
Grain, cereal, forage, fodder and straw, group 16, except sweet corn; forage | 0.20
Grain, cereal, forage, fodder and straw, group 16, except sweet corn; hay | 0.20
Grain, cereal, forage, fodder and straw, group 16, except sweet corn; stover | 0.10
Grain, cereal, forage, fodder and straw, group 16, except sweet corn; straw | 0.60
Grain, cereal, group 15, except sweet corn | 0.10
Grain, cereal, group 15, except sweet corn; bran | 0.15

§ 180.539 [Removed]

12. Remove § 180.539.

§ 180.594 [Amended]

13. In § 180.594, in the table in paragraph (a), remove the text “Peach subgroup 12-12C ¹”, add in its place the text “Plum subgroup 12-12C ¹”, and designate the entry for “Plum subgroup 12-12C ¹” in alphabetical order.

14. In § 180.650, revise the table in paragraph (a) to read as follows:

§ 180.650 Isoxaben; tolerances for residues.

(a) * * *

Commodity | Parts per million
Almond, hulls | 0.40
Grape | 0.01
Nut, tree group 14-12 | 0.02

* * * * *

15. Add § 180.1342 to subpart D to read as follows:

§ 180.1342 d-Limonene; exemption from the requirement of a tolerance.

(a) An exemption from the requirement of a tolerance is established for residues of d-limonene, (4R)-1-methyl-4-(1-methylethenyl)cyclohexene, in or on all food commodities when applied as an herbicide used in accordance with good agricultural practices.

(b) A exemption from the requirement of a tolerance is established for residues of d-limonene, (4R)-1-methyl-4-(1-methylethenyl)cyclohexene, in or on all food commodities when applied as an insecticide in kitchens and pantries.

16. Add § 180.1343 to subpart D to read as follows:

§ 180.1343 Tartrazine; exemption from the requirement of a tolerance.

An exemption from the requirement of a tolerance is established for residues of tartrazine (F.D.&C. Yellow No. 5 or Acid Yellow 23), in or on all food commodities when used as an aquatic plant control agent.

[FR Doc. 2017-18780 Filed 9-7-17; 8:45 am]

BILLING CODE 6560-50-P